DEPARTMENT OF AGRICULTURE

Forest Service

Newspapers Used for Publication of Legal Notice in the Rocky Mountain Region, Which Includes Colorado, Kansas, Nebraska, and Parts of South Dakota and Wyoming

AGENCY: Forest Service, USDA.

ACTION: Notice.

SUMMARY: This notice lists the newspapers that Ranger Districts, Forests, and the Regional Office of the Rocky Mountain Region will use to publish legal notices required under 36 CFR part 218 and 219. The intended effect of this action is to inform interested members of the public which newspapers will be used to publish legal notices for opportunities to comment or file an administrative review on USDA Forest Service proposals.

DATES: Publication of legal notices in the listed newspapers will begin on the date of this publication and continue until further notice.

ADDRESSES: USDA Forest Service, Rocky Mountain Region; ATTN: Regional Administrative Review Coordinator; 740 Simms Street, Golden, Colorado, 80401

FOR FURTHER INFORMATION CONTACT: Nancy Miller, Regional Administrative Review Coordinator, 303 275-5373.

SUPPLEMENTARY INFORMATION: The administrative review procedures at 36 CFR 218 and 219 require the Forest Service to publish notices in a newspaper of general circulation. The content of the notices is specified in 36 CFR 218 and 219. In general, the notices will identify: The decision or project, by title or subject matter; the name and title of the official making the decision; how to obtain additional information; and where and how to file comments or requests for administrative review. The date the notice is published will be used to establish the official date for the beginning of the comment or filing period. The newspapers to be used are as follows:

Rocky Mountian Regional Office

Regional Forester decisions affecting National Forest System lands in Colorado, Kansas, Nebraska and those portions of South Dakota and Wyoming within the Rocky Mountain Region: The Denver Post, published daily in Denver, Colorado.

Arapaho and Roosevelt National Forests and Pawnee National Grassland, Colorado

Forest Supervisor decisions: Coloradoan, published daily in Fort Collins, Colorado.

District Ranger decisions for Canyon Lakes District: Coloradoan, published daily in Fort Collins, Colorado.

District Ranger decisions for Pawnee District: Greeley Tribune, published daily in Greeley, Colorado.

District Ranger decisions for Boulder District: Daily Camera, published daily in Boulder, Colorado.

District Ranger decisions for Clear Creek District: Clear Creek Courant, published weekly in Idaho Springs, Colorado.

District Ranger decisions for Sulphur District: Middle Park Times, published weekly in Granby, Colorado.

Bighorn National Forest, Wyoming

Forest Supervisor decisions: Casper Star-Tribune, published daily in Casper, Natrona County, Wyoming.

District Ranger decisions: Casper Star-Tribune, published daily in Casper, Natrona County, Wyoming.

Black Hills National Forest, South Dakota and Eastern Wyoming

Forest Supervisor decisions: The Rapid City Journal, published daily in Rapid City, Pennington County, South Dakota.

District Ranger decision: The Rapid City Journal, published daily in Rapid City, Pennington County, South Dakota.

Grand Mesa, Uncompahgre, and Gunnison National Forests, Colorado

Forest Supervisor decisions: Grand Junction Daily Sentinel, published daily in Grand Junction, Colorado.

District Ranger decisions for Grand Valley District: Grand Junction Daily Sentinel, published daily in Grand Junction, Colorado.

District Ranger decisions for Paonia District: Delta County Independent, published weekly in Delta, Colorado.

District Ranger decisions for Gunnison Districts: Gunnison Country Times, published weekly in Gunnison, Colorado.

District Ranger decisions for Norwood District: Telluride Daily Planet, published daily in Telluride, Colorado.

District Ranger decisions for Ouray District: Montrose Daily Press, published daily in Montrose, Colorado.

Medicine Bow-Routt National Forests and Thunder Basin National Grassland, Colorado and Wyoming

Forest Supervisor decisions: Laramie Daily Boomerang, published daily in Laramie, Albany County, Wyoming.

District Ranger decisions for Laramie District: Laramie Daily Boomerang, published daily in Laramie, Albany County, Wyoming.

District Ranger decisions for Douglas District: Casper Star-Tribune, published daily in Casper, Natrona County, Wyoming.

District Ranger decisions for Brush Creek-Hayden District: Rawlins Daily Times, published daily in Rawlins, Carbon County, Wyoming.

District Ranger decisions for Hahns Peak-Bears Ears District: Steamboat Pilot, published weekly in Steamboat Springs, Routt County, Colorado.

District Ranger decisions for Yampa District: Steamboat Pilot, published weekly in Steamboat Springs, Routt County, Colorado.

District Ranger decisions for Parks District: Jackson County Star, published weekly in Walden, Jackson County, Colorado.

Nebraska National Forest, Nebraska and South Dakota

Forest Supervisor decisions: The Rapid City Journal, published daily in Rapid City, Pennington County, South Dakota.

District Ranger decisions for Bessey District/Charles E. Bessey Tree Nursery: The North Platte Telegraph, published daily in North Platte, Lincoln County, Nebraska.

District Ranger decisions for Pine Ridge District: The Rapid City Journal, published daily in Rapid City, Pennington County, South Dakota.

District Ranger decisions for Samuel R. McKelvie National Forest: The North Platte Telegraph, published daily in North Platte, Lincoln County, Nebraska.

District Ranger decisions for Fall River and Wall Districts, Buffalo Gap National Grassland: The Rapid City Journal, published daily in Rapid City, Pennington County, South Dakota.

District Ranger decisions for Fort Pierre National Grassland: The Capital Journal, published Monday through Friday in Pierre, Hughes County, South Dakota.

Pike and San Isabel National Forests and Cimarron and Comanche National Grasslands, Colorado and Kansas

Forest Supervisor decisions: Pueblo Chieftain, published daily in Pueblo, Colorado.

District Ranger decisions for San Carlos District: Pueblo Chieftain, published daily in Pueblo, Colorado.

District Ranger decisions for Comanche District-Carrizo Unit: Plainsman Herald, published weekly in Springfield, Colorado.

District Ranger decisions for Comanche District-Timpas Unit: Tribune Democrat, published daily in La Junta, Colorado.

District Ranger decisions for Cimarron District: The Elkhart Tri-State News, published weekly in Elkhart, Kansas.

District Ranger decisions for South Platte District: Douglas County News Press, published weekly in Castle Rock, Colorado.

District Ranger decisions for Leadville District: Herald Democrat, published weekly in Leadville, Colorado.

District Ranger decisions for Salida District: The Mountain Mail, published daily in Salida, Colorado.

District Ranger decisions for South Park District: Fairplay Flume, published weekly in Bailey, Colorado.

District Ranger decisions for Pikes Peak District: The Gazette, published daily in Colorado Springs, Colorado.

Rio Grande National Forest, Colorado

Forest Supervisor decisions: Valley Courier, published Tuesday through Saturday in Alamosa, Colorado.

District Ranger decisions for all Districts: Valley Courier, published, published Tuesday through Saturday in Alamosa, Colorado.

San Juan National Forest, Colorado

Forest Supervisor decisions: Durango Herald, published daily in Durango, La Plata County, Colorado.

District Ranger decisions for Columbine and Pagosa Districts: Durango Herald, published daily in Durango, La Plata County, Colorado.

District Ranger decisions for Dolores District: Cortez Journal, published two times per week in Cortez, Montezuma County, Colorado.

Shoshone National Forest, Wyoming

Forest Supervisor decisions: Cody Enterprise, published twice weekly in Cody, Park County, Wyoming.

District Ranger decisions for Clarks Fork District: Powell Tribune, published twice weekly in Powell, Park County, Wyoming.

District Ranger decisions for Wapiti and Greybull Districts: Cody Enterprise, published twice weekly in Cody, Park County, Wyoming.

District Ranger decisions for Wind River District: The Dubois Frontier, published weekly in Dubois, Fremont County, Wyoming.

District Ranger decisions for Washakie District: Lander Journal, published twice weekly in Lander, Fremont County, Wyoming.

White River National Forest, Colorado

Forest Supervisor decisions: The Glenwood Springs Post Independent, published daily in Glenwood Springs, Garfield County, Colorado.

District Ranger decisions for Aspen-Sopris District: Aspen Times, published daily in Aspen, Pitkin County, Colorado.

District Ranger decisions for Blanco District: Rio Blanco Herald Times, published weekly in Meeker, Rio Blanco County, Colorado.

District Ranger decisions for Dillon District: Summit Daily, published daily in Frisco, Summit County, Colorado.

District Ranger decisions for Eagle-Holy Cross District: Vail Daily, published daily in Vail, Eagle County, Colorado.

District Ranger decisions for Rifle District: Citizen Telegram, published weekly in Rifle, Garfield County, Colorado.

Dated: September 28, 2015.
Jacqueline Buchanan,
Deputy Regional Forester, Rocky Mountain Region.

[FR Doc. 2015-26415 Filed 10-16-15; 8:45 am]

BILLING CODE 3410-11-P